DEPARTMENT OF COMMERCE

National Oceanic and Atmospheric Administration

[RTID 0648-XB844]

Pacific Island Fisheries; Experimental Fishing Permit

AGENCY: National Marine Fisheries Service (NMFS), National Oceanic and Atmospheric Administration (NOAA), Commerce.

ACTION: Notice; amendment of permit.

SUMMARY: NMFS issued an amended experimental fishing permit (EFP) to the Hawaii Longline Association (HLA) on September 20, 2023 to evaluate the risk of seabird interactions in the Hawaii shallow-set longline fishery when setting fishing gear 1 hour before and 1 hour after local sunset and using tori lines instead of required blue-dyed bait and strategic offal discharge as seabird mitigation measures. The intent of the EFP is to conduct a preliminary evaluation of potential alternative effective methods of discouraging seabird interactions while providing operational flexibility during setting in the shallow-set longline fishery. The amendment will extend the expiration date to August 24, 2024 and modify the list of vessels authorized under the EFP. All other terms and conditions of the EFP are unchanged. The amended EFP invalidates and replaces the EFP issued by NMFS to HLA on January 24, 2023.

DATES: The EFP is authorized from March 24, 2022, through August 24, 2024.

ADDRESSES: Copies of the EFP, HLA's application, and supporting documents are available at https://www.regulations.gov/docket/NOAA-NMFS-2021-0128.

FOR FURTHER INFORMATION CONTACT: Heather Nelson, Sustainable Fisheries, NMFS Pacific Islands Regional Office, tel (808) 725-5179.

SUPPLEMENTARY INFORMATION: NMFS is issuing an amended EFP to the HLA under the authority of the Magnuson-Stevens Fishery Conservation and Management Act (Magnuson-Stevens Act), the Fishery Ecosystem Plan for Pelagic Fisheries of the Western Pacific (FEP), and regulations at 50 CFR 665.17. Under the EFP, HLA will conduct a pilot test of tori lines (bird scaring streamers) as replacement seabird mitigation measures to discourage seabird interactions during setting in the Hawaii shallow-set longline fishery. The purpose of the experiment is to test new ways to mitigate seabird interactions that also increase operational flexibility during setting. HLA will use no more than one vessel at any given time to test tori lines as an alternate seabird mitigation measure to currently required blue-dyed bait, strategic offal discharge, and night setting measures (50 CFR 665.815(a)(2) & (4)).

On March 18, 2022, under the authority of the Magnuson-Stevens Act, the FEP, and regulations at 50 CFR 665.17, NMFS issued an EFP to the HLA to evaluate the risk of seabird interactions in the Hawaii shallow-set longline fishery when setting fishing gear one hour before and one hour after local sunset and using tori lines instead of required blue-dyed bait and strategic offal discharge as seabird mitigation measures. The EFP was authorized from March 24, 2022, through September 24, 2023. On January 24, 2023, NMFS issued an amended EFP which authorized the participation of a new vessel, the F/V Vui Vui II under the EFP and approved the tori line design submitted to NMFS by HLA. All other terms and conditions of the EFP remained the same. This EFP invalidated and replaced the EFP issued by NMFS to HLA on March 24, 2022.

In a letter to NMFS dated June 13, 2023 HLA notified NMFS that no fishing effort occurred under the EFP due to unforeseen circumstances, including a delay in obtaining electronic monitoring equipment and crew shortages, and that none of the authorized vessels will participate in the trial. HLA requested a permit modification to authorize the participation of the F/V's Queen Diamond (Official No. 964927), Queen Diamond II (Official No. 949947), Lady Luck (Official No. 905580), and Lucky Lady (Official No. 616365) in place of the authorized vessels, and to extend the expiration date of the EFP through August 2024.

The requested vessels are of the same type, with a similar length and weight as the previously authorized vessels. No experimental fishing has occurred under the current permit, and the proposed extension is an extension of time to conduct the experimental fishing contemplated by the 2022 permit, rather than an extension that would allow for more effort than what was originally considered (80 fishing sets).

The project is limited in scale (only 4 vessels, setting a combined total of 80 sets with no more than 1 vessel operating at any given time), proposes a minor change in fishing operations that does not have the potential to change the overall effects of the fishery, and will be effective for no longer than 11 months. All other regulatory requirements would remain in effect for participating vessels, including seabird mitigation requirements at 50 CFR 665.815(a)(2) for strategic offal discharge during hauling, and 50 CFR 665.815(b) for short-tailed albatross handling techniques.

In addition, gear configurations and operations under the EFP would be compliant with international seabird mitigation requirements under the Western and Central Pacific Fisheries Commission and the Inter-American Tropical Tuna Commission. More information about the EFP may be found in the December 15, 2021 notice, and in HLA's EFP application (see ADDRESSES).

The amended EFP is effective through August 24, 2024, unless revoked, suspended, or modified earlier.

Authority: 16 U.S.C. 1801 et seq.

Dated: September 25, 2023.
Jennifer M. Wallace,
Acting Director, Office of Sustainable Fisheries, National Marine Fisheries Service.

[FR Doc. 2023-21329 Filed 9-28-23; 8:45 am]

BILLING CODE 3510-22-P